Title 3—

The President

Proclamation 7710 of September 26, 2003

Minority Enterprise Development Week, 2003

By the President of the United States of America

A Proclamation

America's more than 3 million minority-owned businesses represent one of the fastest-growing segments of our Nation's economy. Through skill, hard work, and determination, these businesses are strengthening our Nation and our economy. During Minority Enterprise Development Week, we recognize these businesses, their owners, and their employees for their commitment to free enterprise and equal opportunity.

Most businesses in America—including those that are minority-owned—are small businesses. Small businesses are a path to the American Dream and must be accessible to all of our citizens. Through the Department of Commerce's Minority Business Development Agency and the Small Business Administration, we are promoting both the growth of minority-owned businesses and equal access to Federal contracts, capital, and management and technical assistance.

Small businesses also create most of the new jobs in our economy, and my Administration is acting to create an environment where small businesses grow and thrive. On May 28, I signed the Jobs and Growth Tax Relief Reconciliation Act of 2003, allowing entrepreneurs to keep more of their hard-earned money. My Administration is also pursuing an ambitious trade agenda. This year, I signed legislation implementing Free Trade Agreements with Chile and Singapore. These new Free Trade Agreements, and others that my Administration is seeking, not only will provide cheaper goods for consumers, but also will create new high-wage jobs for American workers.

I encourage all Americans to recognize the strength and importance of our country's minority entrepreneurs and their employees. The talents, skills, and dedication of these citizens enrich our communities, and we honor their contributions to our Nation.

NOW, THEREFORE, I, GEORGE W. BUSH, President of the United States of America, by virtue of the authority vested in me by the Constitution and laws of the United States, do hereby proclaim September 28 through October 4, 2003, as Minority Enterprise Development Week. I encourage all Americans to celebrate this week with appropriate programs, ceremonies, and activities to recognize the many contributions of our Nation's minority enterprises.

IN WITNESS WHEREOF, I have hereunto set my hand this twenty-six day of September, in the year of our Lord two thousand three, and of the Independence of the United States of America the two hundred and twenty-eighth.

B

[FR Doc. 03-25035

Filed 9-30-03; 8:45 am]

Billing code 3195-01-P